ENVIRONMENTAL PROTECTION AGENCY

[EPA-HQ-OECA-2012-0679; FRL-10002-41-OMS]

Information Collection Request Submitted to OMB for Review and Approval; Comment Request; NESHAP for Petroleum Refineries: Catalytic Cracking Units, Catalytic Reforming Units, and Sulfur Recovery Units (Renewal)

AGENCY: Environmental Protection Agency (EPA).

ACTION: Notice.

SUMMARY: The Environmental Protection Agency (EPA) has submitted an information collection request (ICR), NESHAP for Petroleum Refineries: Catalytic Cracking Units, Catalytic Reforming Units, and Sulfur Recovery Units (EPA ICR Number 1844.11, OMB Control Number 2060-0554), to the Office of Management and Budget (OMB) for review and approval in accordance with the Paperwork Reduction Act. This is a proposed extension of the ICR, which is currently approved through January 31, 2020. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 26, 2019.

ADDRESSES: Submit your comments, referencing Docket ID Number EPA-HQ-OECA-2012-0679, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for the Petroleum Refineries: Catalytic Cracking Units, Catalytic Reforming Units, and Sulfur Recovery Units apply to three types of affected units at major source petroleum refineries: Fluid catalytic cracking units (FCCU) for catalyst regeneration, catalytic reforming units (CRU), and sulfur recovery units (SRU). The rule also includes requirements for by-pass lines associated with the three affected units. Owners and operators of affected units are required to comply with reporting and record keeping requirements for the General Provisions (40 CFR part 63, subpart A), as well as for the applicable standards in 40 CFR part 63, subpart UUU. This includes submitting initial notifications, performance tests and periodic reports and results, and maintaining records of the operation of an affected facility. These reports are used by EPA to determine compliance with these standards.

Form Numbers: None.

Respondents/affected entities: Petroleum refineries that operate catalytic cracking units, catalytic reforming units, and sulfur recovery units.

Respondent's obligation to respond: Mandatory (40 CFR part 63).

Estimated number of respondents: 142 (total).

Frequency of response: Semiannually.

Total estimated burden: 17,500 hours (per year). Burden is defined at 5 CFR 1320.3(b).

Total estimated cost: $10,800,000 (per year), includes $8,780,000 annualized capital or operation & maintenance costs.

Changes in the estimates: There is a moderate decrease in burden in this ICR compared to the previous ICR. The decrease in the burden and cost estimates occurred because refineries are assumed to have implemented the initial 2015 rule compliance activities since the standard has been in effect for more than three years. The previous ICR reflected those burdens and costs associated with the initial activities for subject facilities. This includes conducting performance test(s) and establishing or revising recordkeeping systems. This ICR, by in large, reflects the on-going burden and costs for existing facilities. Activities for existing sources include 5-year performance tests, continuous monitoring of pollutants, and the submission of semiannual reports. This ICR also corrects the Agency burden from the prior ICR to account for burden for review of submitted RATA for units using CEMS.

Courtney Kerwin,
Director, Regulatory Support Division.

[FR Doc. 2019-25485 Filed 11-22-19; 8:45 am]

BILLING CODE 6560-50-P